SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections and revisions to OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below: (OMB) Office of Management and Budget, Attn: Desk Officer for SSA, Fax: 202-395-6974; (SSA) Social Security Administration, DCFAM, Attn: Reports Clearance Officer, 1333 Annex Building, 6401 Security Blvd., Baltimore, MD 21235, Fax: 410-965-6400.

I. The information collection listed below is pending at SSA and will be submitted to OMB within 60 days from the date of this notice. Therefore, your comments should be submitted to SSA within 60 days from the date of this publication. You can obtain copies of the collection instrument by calling the SSA Reports Clearance Officer at 410-965-0454 or by writing to the address listed above.

1. Vendor List Registration Form—0960-NEW. The Social Security Administration (SSA) maintains an Employer Wage Reporting and Instructions Vendor Web site. On this site, relevant vendors are allowed to list their products and services free of charge. Vendors wishing to list their information on the site can submit these requests via a written registration form, and will soon be able to use a new electronic means of submitting the information through the Web site itself. The respondents are vendors dealing with vendors who offer employer wage reporting services and want SSA to list their information on its Web site.

Type of Request: New information collection.

Number of Respondents: 500.

Frequency of Response: 1.

Average Burden Per Response: 8 minutes.

Estimated Annual Burden: 67 hours.

II. The information collections listed below have been submitted to OMB for clearance. Your comments on the information collections would be most useful if received by OMB and SSA within 30 days from the date of this publication. You can obtain a copy of the OMB clearance packages by calling the SSA Reports Clearance Officer at 410-965-0454 or by writing to the address listed above.

1. Function Report—Adult—20 CFR 404.1512 and 419.912—0960-0681. Form SSA-3373 is used to collect information about a disability applicant's impairment-related limitations and ability to function. It documents the types of information specified in SSA regulations and provides disability interviewers with a convenient means to record information about how the claimant's condition affects his or her ability to function. This information, together with medical evidence, forms the evidentiary basis upon which the initial disability process is founded. The respondents are Title II and Title XVI benefits applicants.

Type of Request: Revision to an OMB-approved information collection.

Number of Respondents: 4,005,367.

Frequency of Response: 1.

Average Burden Per Response: 60 minutes.

Estimated Annual Burden: 4,005,367 hours.

2. Certificate of Incapacity—5 CFR 890.302(d)—0960-NEW. Rules governing the Federal Employee Health Benefits (FEHB) plan state that for federal employees' children ages 22 or over to retain health benefits, they must be incapable of self-support due to a disability that (1) pre-dated the child's 22nd birthday, (2) is very serious, and (3) can be expected to last at least one year. Form SSA-604, the Certificate of Incapacity, is used by physicians to document and certify such a disability for their patients who are children of federal employees.

The respondents are physicians of federal employees' children ages 22 or over who are seeking to retain health benefits under their parent's FEHB coverage.

Type of Request: New information collection.

Number of Respondents: 38.

Frequency of Response: 1.

Average Burden Per Response: 45 minutes.

Estimated Annual Burden: 29 hours.

3. SSA Survey of Ticket to Work Beneficiaries—0960-NEW. The Social Security Administration (SSA) plans to survey two groups of Social Security beneficiaries who qualified for the Ticket to Work program. The first group consists of those beneficiaries who did choose to enter the program, while those in the second group did not. The information gathered by the survey will be used to assess and contrast the social and media interaction preferences of these beneficiaries, both on a general level and specifically in relation to media preferences for the Ticket to Work program. SSA will use this information to determine what role, if any, the type of media outlet SSA used played in a beneficiary's decision to join the Ticket to Work program and to improve interactions with potential Ticket to Work program participants. The respondents are Social Security beneficiaries who qualified for the Ticket to Work program.

Type of Request: New information collection.

Number of Respondents: 800.

Frequency of Response: 1.

Average Burden Per Response: 15 minutes.

Estimated Annual Burden: 200 hours.

Dated: August 2, 2006.
Elizabeth A. Davidson,
Reports Clearance Officer, Social Security Administration.

[FR Doc. E6-12803 Filed 8-7-06; 8:45 am]

BILLING CODE 4191-02-P